DEPARTMENT OF TRANSPORTATION

National Highway Traffic Safety Administration

49 CFR Part 565

[Docket No. NHTSA 2008-0022]

RIN 2127-AK63

Vehicle Identification Number Requirements; Technical Amendment

AGENCY: National Highway Traffic Safety Administration (NHTSA), DOT.

ACTION: Final rule; technical amendments.

SUMMARY: NHTSA published in the Federal Register of April 30, 2008, a final rule making certain changes in the 17-character vehicle identification number (VIN) system so that the system will remain viable for at least another 30 years. The effective date of that final rule was October 27, 2008. The agency published a correction document on May 16, 2008. Today's document makes further correction of several typographic errors in the regulatory text adopted by the April 2008 final rule.

DATES: Effective Date: December 22, 2009.

FOR FURTHER INFORMATION CONTACT: For technical and policy questions: Kenneth O. Hardie, Office of Crash Avoidance Standards, NHTSA, W43-458, 1200 New Jersey Avenue, SE., Washington, DC 20590 (Telephone: 202-366-6987) (Fax: 202-366-7002).

For legal questions: Deirdre Fujita, Office of Chief Counsel, NHTSA, 1200 New Jersey Avenue, SE., Washington, DC 20590 (Telephone: 202-366-2992) (Fax: 202-366-3820).

SUPPLEMENTARY INFORMATION: NHTSA published a final rule in the Federal Register of April 30, 2008, (73 FR 23367; NHTSA Docket 2008-0022) that amended 49 CFR Part 565, making certain changes in the 17-character vehicle identification number (VIN) system so that there will be a sufficient number of unique manufacturer identifiers and VINs to use for at least another 30 years. A May 16, 2008, document corrected several typographical errors that appeared in the regulatory text of the April 30, 2008 final rule (73 FR 28370, Docket 20008-0022). Today's document corrects several additional errors, primarily incorrect references to sections of the CFR that have been renumbered.

List of Subjects in 49 CFR Part 565

Motor vehicle safety, Reporting and recordkeeping requirements.

In consideration of the foregoing, NHTSA amends 49 CFR part 565 as follows:

PART 565—VEHICLE IDENTIFICATION NUMBER (VIN) REQUIREMENTS

1. The authority citation for part 565 continues to read as follows:

Authority: 49 U.S.C. 322, 30111, 30115, 30117, 30141, 30146, 30166, and 30168; delegation of authority at 49 CFR 1.50.

Subpart B—VIN Requirements

2. Section 565.13 is amended by revising paragraphs (a) and (g) to read as follows:

§ 565.13 General requirements.

(a) Each vehicle manufactured in one stage shall have a VIN that is assigned by the manufacturer. Each vehicle manufactured in more than one stage shall have a VIN assigned by the incomplete vehicle manufacturer. Vehicle alterers, as specified in 49 CFR 567.7, shall utilize the VIN assigned by the original manufacturer of the vehicle.

* * * * *

(g) Each character in each VIN shall be one of the letters in the set: [ABCDEFGHJKLMNPRSTUVWXYZ] or a numeral in the set: [0123456789] assigned according to the method given in § 565.15.

* * * * *

Subpart C—Alternative VIN Requirements in Effect for Limited Period

3. Section 565.23 is amended by revising paragraphs (a) and (g) to read as follows:

§ 565.23 General requirements.

(a) Each vehicle manufactured in one stage shall have a VIN that is assigned by the manufacturer. Each vehicle manufactured in more than one stage shall have a VIN assigned by the incomplete vehicle manufacturer. Vehicle alterers, as specified in 49 CFR 567.7, shall utilize the VIN assigned by the original manufacturer of the vehicle.

* * * * *

(g) Each character in each VIN shall be one of the letters in the set: [ABCDEFGHJKLMNPRSTUVWXYZ] or a numeral in the set: [0123456789] assigned according to the method given in § 565.25.

* * * * *

Issued: December 11, 2009.
Stephen R. Kratzke,
Associate Administrator for Rulemaking.

[FR Doc. E9-30027 Filed 12-21-09; 8:45 am]

BILLING CODE 4910-59-P